DEPARTMENT OF THE TREASURY

United States Mint

Renewal of Currently Approved Information Collection: Comment Request for Application for Intellectual Property Use Forms

AGENCY: United States Mint.

ACTION: Notice and request for comments.

SUMMARY: The Department of the Treasury invites the general public and other Federal agencies to take this opportunity to comment on currently approved information collection 1525-0013, as required by the Paperwork Reduction Act of 1995, Public Law 104-13. The United States Mint, a bureau of the Department of the Treasury, is soliciting comments on the United States Mint Application for Intellectual Property Use form.

DATES: Written comments should be received on or before April 30, 2018 to be assured of consideration.

ADDRESSES: Direct all written comments to Mary Ann Scharbrough, Office of the Director, Executive Secretariat, United States Mint; 801 9th Street NW, Washington, DC 20220; (202) 384-5805 (this is not a toll-free number); mary.scharbrough@usmint.treas.gov.

FOR FURTHER INFORMATION CONTACT: Requests for additional information or copies of the information collection package should be directed to Mary Ann Scharbrough, Office of the Director, Executive Secretariat, United States Mint; 801 9th Street NW, Washington, DC 20220; (202) 384-5805 (this is not a toll-free number); mary.scharbrough@usmint.treas.gov.

SUPPLEMENTARY INFORMATION:

Title: Application for Intellectual Property Use.

OMB Number: 1525-0013.

Abstract: The application form allows individuals and entities to apply for permissions and licenses to use United States Mint owned or controlled intellectual property.

Current Actions: The United States Mint reviews and assesses permission requests and applications for United States Mint intellectual property licenses.

Type of Review: Renewal of a currently approved information collection.

Affected Public: Businesses or other for-profit; not-for-profit institutions; State, Local, or Tribal Government; and individuals or households.

Estimated Number of Respondents: The estimated number of annual respondents is 113.

Estimated Total Annual Burden Hours: The estimated number of annual burden hours is 84.

Requests for Comments: Comments submitted in response to this notice will be summarized and/or included in the request for Office of Management and Budget (OMB) approval. All comments will become a matter of public record.

Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: February 23, 2018.
Jon J. Cameron,
Acting Chief Administrative Officer, United States Mint.

[FR Doc. 2018-04078 Filed 2-27-18; 8:45 am]

BILLING CODE 4810-37-P